FEDERAL COMMUNICATIONS COMMISSION

Privacy Act of 1974; System of Records

AGENCY: Federal Communications Commission.

ACTION: Notice of a modified system of records.

SUMMARY: The Federal Communications Commission (FCC or Commission or Agency) is modifying an existing system of records, FCC/WCB-1, Lifeline Program, subject to the Privacy Act of 1974, as amended. This action is necessary to meet the requirements of the Privacy Act to publish in the Federal Register notice of the existence and character of records maintained by the agency. The Lifeline Program (or “Lifeline”) provides discounts for voice telephony (i.e., telephone service) and broadband Internet access service (BIAS) to qualifying low-income individuals (i.e., one Lifeline Program telephone per household). Individuals may qualify for Lifeline through proof of income or participation in another qualifying program. Since the Telecommunications Act of 1996 (1996 Act), the Lifeline Program has been administered by the Universal Service Administrative Company (USAC) under the direction of the Commission and, by delegation, of the Commission's Wireline Competition Bureau (WCB). This system of records contains information about individual Lifeline Program participants. The modifications described in this notice will allow USAC to maintain and administer this system in a manner that promotes efficiency and minimizes waste, fraud, and abuse.

DATES: Written comments are due on or before September 14, 2017. This action (including the routine uses) will become effective on September 14, 2017 unless comments are received that require a contrary determination.

ADDRESSES: Send comments to Leslie F. Smith, Privacy Manager, Information Technology (IT), Room 1-C216, Federal Communications Commission (FCC), 445 12th Street SW., Washington, DC 20554, or to Leslie.Smith@fcc.gov.

FOR FURTHER INFORMATION CONTACT: Leslie F. Smith, (202) 418-0217, or Leslie.Smith@fcc.gov.

SUPPLEMENTARY INFORMATION: This notice serves to update and modify FCC/WCB-1, Lifeline Program, to include PII that will be obtained and processed by the National Verifier, which is being deployed as adopted in the Commission's 2016 Lifeline and Link Up Reform and Modernization Third Report and Order to make eligibility determinations and perform a variety of other functions necessary to enroll individuals into the Lifeline program. See Lifeline and Link Up Reform and Modernization et al., Third Report and Order, Further Report and Order, and Order on Reconsideration, 31 FCC Rcd 3962, 4006, para. 126 (2016) (2016 Lifeline Modernization Order). The National Verifier will be comprised of both the existing National Lifeline Accountability Database (NLAD) system and a new Lifeline Eligibility Database (LED). The WCB is also making various other updates and modifications to comply with current OMB and FCC policies and practices. The Lifeline Program serves low-income individuals by providing qualifying individuals (i.e., one Lifeline Program telephone per household) with discounts on voice telephony and BIAS service. Since the Telecommunications Act of 1996 (1996 Act), the Lifeline Program has been administered by the Universal Service Administrative Company (USAC) under the direction of the Commission and, by delegation, of WCB. The substantive changes and modifications to the previously published version of the FCC/WCB-1 system of records include:

(a) Changes to the security classification;

(b) Expansion of the system's purposes as provided in the 2016 Lifeline Modernization Order with the implementation of the National Verifier to make eligibility determinations and perform a variety of other functions necessary to enroll eligible subscribers into the Lifeline Program (or “Lifeline”); to add broadband Internet access service (BIAS) as a Lifeline-eligible service; to include all PII used to determine an individual's eligibility to participate in the program and recertify eligibility where the National Verifier is not responsible for eligibility determinations; to include the PII that will be used by the National Verifier to verify an individual's eligibility for the program and recertify program participants where the National Verifier is responsible for eligibility determinations and recertification; to cover the PII that is used to ensure that individuals in a single household do not receive more than one Lifeline Program benefit; to include the PII that is needed for call center inquiries regarding eligibility and dispute resolution; to include the information necessary for the System Integrator to develop, test, and operate the database system and network that will be used to implement and operate the National Verifier; and to include the information submitted to the National Verifier by subscribers seeking information on the status of their eligibility or for dispute resolution purposes.

(c) Expansion of the categories of individuals to include individuals who enable another individual in their household to qualify for benefits; or are individuals acting on behalf of an eligible telecommunications carrier who have enrolled individuals in the Lifeline Program;

(d) Expansion of the categories of records to include information on whether the individual resides on Tribal lands, information on whether the address is temporary and/or descriptive and whether it includes coordinates, mailing address (if different), Tribal identification number, telephone number, full name of the qualifying person (if different from the individual applicant), the last four digits of the qualifying person's social security number, qualifying person's date of birth, documents demonstrating eligibility, documents demonstrating identity, individual contact information, Lifeline subscriber identification number, security question, answer to security question, user name, password, agent identification information (if an agent is assisting in completing the application), individual's eligibility certifications, and individual's signature and date of application;

(e) Updating language and/or renumbering 9 routine uses: (1) FCC/USAC Program Management; (2) Third Party Contractors; (5) State Agencies and Other Authorized State Government Entities; (10) FCC Enforcement Actions; (11) Congressional Inquiries; (12) Government-Wide Program Management and Oversight; (13) Income and Program Eligibility Records; (14) Law Enforcement and Investigation; and (16) Breach Notification to comply with OMB requirements (M-17-12);

(f) Merging of two routine uses (15) Adjudication and Litigation (now includes the previous Department of Justice routine use), formerly (10) and (11) respectively;

(g) Addition of 11 new routine uses: (3) Business Process Outsource (BPO) Entity to allow a BPO employee access to Lifeline Program information related to the National Verifier; (4) System Integrator (SI) to allow a SI employee access to Lifeline Program information to develop, test and operate the database system and network; (6) Social Service Agencies and Other Approved Third Parties to allow USAC approved social service entities to assist individuals to apply for the Lifeline Program; (7) Federal Agencies to allow data sharing between FCC/USAC and other Federal agencies; (8) Tribal Nations to allow Tribal Nations to assist with Lifeline Program services; (9) Service Providers to allow designated ETC service providers to assist with providing Lifeline Program supported services and obtain reimbursement; (17) Assistance to Federal Agencies and Entities to comply with OMB requirements (M-17-12); (18) Computer Matching Program Disclosure for purposes of conducting computer matching programs; (19) Prevention of Fraud, Waste, and Abuse Disclosure; (20) Information Sharing Environment Disclosure; and (21) Reports from the National Verifier to allow for aggregated and non-aggregated reports to approved parties.

The system of records is also updated to reflect various administrative changes related to the system managers and system addresses; policy and practices for storage, retrieval, and retention and disposal of the records; administrative, technical, and physical safeguards; and updated notification, records access, and contesting records procedures.

SYSTEM NAME AND NUMBER:

FCC/WCB-1, Lifeline Program.

SECURITY CLASSIFICATION:

No information in the system is classified.

SYSTEM LOCATION(S):

Universal Service Administrative Company (USAC), 700 12th Street NW., Suite 900, Washington, DC 20005; and

Wireline Competition Bureau (WCB), Federal Communications Commission (FCC), 445 12th Street SW., Washington, DC 20554.

SYSTEM MANAGER(S) AND ADDRESS(ES):

USAC administers the Lifeline Program for the FCC.

Address inquiries to the Universal Service Administrative Company (USAC), 700 12th Street NW., Suite 900, Washington, DC 20005; or

Wireline Competition Bureau (WCB), 445 12th Street SW., Washington, DC 20554.

AUTHORITY FOR MAINTENANCE OF THE SYSTEM:

47 U.S.C. 151-154, 201-205, 214, 254, 403. 47 CFR Sections 54.400-54.423.

PURPOSE(S):

The Lifeline Program provides discounts for voice telephony and BIAS service, and the initial connection charge in Tribal areas to support such service, to qualifying low-income individuals (i.e., one Lifeline telephone service per household). Individuals may qualify for Lifeline through proof of income or proof of participation in another qualifying program. The Lifeline Program system of records currently covers the PII that is used to determine an individual's eligibility to participate in the program. The system is being revised as a result of the 2016 Lifeline Modernization Order to add the PII that will be used by the National Verifier and its associated uses. As a result, all PII that is used for one or more purposes in the Lifeline Program system of records' seven functions, listed below, will be covered. The information in these functions includes, but is not limited to:

1. Initial Eligibility Determination:

(a) The information that is used to verify an individual's eligibility to participate in the Lifeline Program, which will be evaluated by the eligible telecommunications carrier (ETC), USAC, or the applicable State authority in those areas where the National Verifier is not responsible for verifying eligibility.

(b) The information that is used to verify an individual's eligibility to participate in the Lifeline Program using the National Verifier in those areas where the National Verifier is responsible for eligibility determination, which is now extended to include individuals who reside on Tribal Lands.

2. Recertification of Subscribers:

(a) The information used by USAC to recertify Lifeline subscribers for ETCs that elect to have USAC act on their behalf to recertify their Lifeline subscribers in those areas where the National Verifier is not responsible for recertification of a subscriber's Lifeline eligibility.

(b) The information that is used by an ETC or applicable State authority to recertify an individual's continued eligibility to participate in the Lifeline Program in those areas where the National Verifier is not responsible for recertification of a subscriber's Lifeline eligibility.

(c) The information that is used to recertify an individual's continued eligibility to participate in the Lifeline Program and to be recertified using the National Verifier in areas where the National Verifier is responsible for re-certification of a subscriber's Lifeline eligibility.

(d) If the automated National Verifier recertification process is unable to recertify an individual, the recertification process will be done manually.

3. One-Per-Household Evaluation:

The information that is used to determine whether an individual in a household, who is applying for a Lifeline Program benefit, is already receiving a Lifeline Program benefit from one or more providers, i.e., that individuals in a single household do not receive more than one Lifeline Program benefit as required by 47 CFR Sections 54.404 and 54.410.

4. Call Center Operations, Eligibility:

The information that is contained in the records of the inquiries that ETCs and individuals make to the USAC contractor call center to verify that an individual is eligible to participate in the Lifeline Program.

5. Call Center Operations, Dispute Resolution:

USAC will designate a third party contractor to establish a call center as part of USAC's dispute resolution processes. The contractor will operate this call center, which individuals may use who are seeking to participate in or are already participating in the Lifeline Program. These individuals may call the center to ensure that they have not been improperly denied access to Lifeline Program benefits through the verification process. Any information generated by these inquiries will constitute a separate, distinct database, which will include, but is not limited to, recordings of live agent calls, identity of the user initiating the request, brief description of the request, type of request, identification of the USAC-approved script used in responding to the request, resolution status, and whether the request was escalated (i.e., if the agent escalates the issue to the agent's manager or USAC program personnel). This information will be used, among other things, to verify the accuracy of the information stored in the Lifeline system.

6. Database System Development, Testing and Operation:

USAC will designate a third-party contractor to develop, test, and operate the database and system network. The contractor will establish the core database and automated connections to other databases. This information will be used, among other things, to develop technical parameters for database connections and matching criteria.

7. National Verifier Status Requests and Dispute Resolution:

(a) The information that is submitted to the National Verifier by subscribers when seeking information on the status of their eligibility.

(b) The information that is submitted to the National Verifier for dispute resolution purposes. Records in the Lifeline system are available for public inspection after redaction of information that could identify the individual participant, such as the individual's first and last name(s), date of birth, last four digits of social security number, tribal ID number, telephone number, or other PII.

CATEGORIES OF INDIVIDUALS COVERED BY THE SYSTEM:

The categories of individuals in this system include, but are not limited to, those individuals (residing in a single household) who have applied for benefits; are currently receiving benefits; are individuals who enable another individual in their household to qualify for benefits; are minors whose status qualifies a parent or guardian for benefits; are individuals who have received benefits under the Lifeline Program; or are individuals acting on behalf of an ETC who have enrolled individuals in the Lifeline Program, which serves low-income individuals by providing these qualifying individuals with discounts on telephone and BIAS service for their household.

CATEGORIES OF RECORDS IN THE SYSTEM:

The categories of records in the system include, but are not limited to the information that is encompassed in one or more of the Lifeline Program system of records' seven functions and associated uses.

1. Initial Eligibility Determination, 2. Recertification of Subscribers, 4. Call Center Operations, Eligibility, 5. Call Center Operations, Dispute Resolution, and 7. National Verifier Status Requests and Dispute Resolution will collect, use, and maintain PII in their databases and files that includes, but is not limited to: individual applicant's first and last name; residential address; information on whether the individual resides on Tribal lands; information on whether the address is temporary and/or descriptive and whether it includes coordinates; mailing address (if different); date of birth; last four digits of social security number ¹ or Tribal identification number; telephone number; full name of the qualifying person (if different from the individual applicant); qualifying person's date of birth; the last four digits of the qualifying person's social security number or their Tribal identification number; information on whether the qualifying person resides on Tribal lands; means of qualification for Lifeline (i.e., income or relevant program participation); documents demonstrating eligibility; individual contact information; Lifeline subscriber identification number; security question; answer to security question; user name; password; agent identification information (if an agent is assisting in completing the application); individual applicant's eligibility certifications; individual applicant's signature and date of application; Lifeline service initiation date and termination date; amount of Lifeline support received per month; date of the provision of Link-Up support (if applicable).

¹ In cases where documentation containing the individual's full social security number is provided, all but the last four digits of the number will be immediately redacted.

3. One-Per-Household Evaluation contains the PII on whether the individual's husband, wife, or domestic partner living at the same address has Lifeline-discounted service; whether another adult that lives with the individual has a Lifeline-discounted service; and whether the individual shares expenses for bills, food, or other living expenses and shares income with the other adult that lives with them. In order to determine whether the information is accurate, the identity information associated with the individual applicant is confirmed with a third-party verification service not in the control of USAC or the Commission.

4. Call Center Operations, Eligibility will also collect, use, and store PII that includes the information that is contained in the records of the inquiries that ETCs and individuals make to the USAC contractor call center to verify that an individual is eligible to participate in the Lifeline Program.

5. Call Center Operations, Dispute Resolution will also collect, use, and store PII that includes information (which is housed in a separate, distinct database) that is used, among other things, to verify the accuracy of the information in the Lifeline system. It includes, but is not limited to, the live recordings (i.e., voice prints) and related information associated with agent conversations with individuals who initiate calls to the call center. The PII includes, but is not limited, to the brief description of the request, type of request, identification of the USAC-approved script used in responding to the request, resolution status, and whether the request was escalated (i.e., if the agent escalates the issue to the agent's manager or USAC program personnel).

6. Database System Development, Testing and Operation will collect, use, and store information that will comprise the PII from these other six Lifeline functions that is used, among other things, to develop technical parameters for database connections and matching criteria.

7. National Verifier Status Requests and Dispute Resolution will also collect, use, and store PII that includes the information that is contained in the records of status requests and dispute resolution requests individuals make via the National Verifier.

RECORD SOURCE CATEGORIES:

The sources for the information in the Lifeline Program system of records include, but are not limited to:

1. The information that ETCs must provide to verify eligibility prior to enrolling individuals and/or to re-certify individuals (in qualifying households) for participation in the Lifeline Program and any associated agent identification information if an agent of an ETC is assisting an individual in applying for Lifeline benefits.

2. The information that individuals (in qualifying households) must provide to determine their households' eligibility and re-certify for participation in the Lifeline Program, e.g., participating in other qualifying programs and/or services.

3. The information submitted to the National Verifier to determine if an individual is eligible and to re-certify the individual for participation in the Lifeline Program where the National Verifier is responsible for eligibility determination and re-certification.

4. The information collected from State and Federal databases which reflects information on individuals eligible for qualifying programs, even if not all such individuals are applying for the Lifeline benefit or participating in the Lifeline Program.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. FCC/USAC Program Management—To the FCC and USAC employees to conduct official duties associated with the management and operation of the Lifeline Program, the NLAD and the LED (which together comprise the National Verifier), as directed by the Commission.

2. Third Party Contractors—To an employee of a third-party contractor engaged by USAC or an ETC to, among other things, develop the Lifeline Eligibility Database, conduct the eligibility verification process, recertification process, and assist in dispute resolution.

3. Business Process Outsourcing (BPO) Entity—To an employee of the BPO engaged by USAC to perform and review eligibility evaluations where the National Verifier is responsible for such processes for purposes of performing manual eligibility verification (when needed) and to assist in dispute resolution.

4. System Integrator (SI)—To an employee of the SI engaged by USAC as needed to develop, test, and operate the database system and network.

5. State Agencies and Other Authorized State Government Entities—To designated State agencies and other authorized entities, which include, but are not limited to, State public utility commissions, State departments of health and human services or other State agencies that share data with USAC or the FCC for purposes of eligibility verification, and their agents, as is consistent with applicable Federal and State laws, in order to: administer the Lifeline Program on behalf of an ETC in that State; perform other management and oversight duties and responsibilities; enable the National Verifier to perform eligibility verification for individuals applying for or re-certifying for Lifeline support; obtain enrollment and other selected reports; develop and operate data sharing agreements with USAC or the FCC; compare information contained in the National Lifeline Accountability Database (NLAD) and Lifeline eligibility, recertification, and related systems to information contained in state databases associated with State-administered Lifeline Programs in order to assess differences between State and Federal programs and make adjustments.

6. Social Service Agencies and Other Approved Third Parties—To social service agencies and other third parties that have been approved by USAC for purposes of assisting individuals in applying for Lifeline support.

7. Federal Agencies—To other Federal agencies for the development of and operation under data sharing agreements with USAC or the FCC including, but not limited to, the Department of Housing and Urban Development (HUD), the Centers for Medicare and Medicaid Services (CMS), the Social Security Administration (SSA), and the Department of Veterans' Affairs (VA), to enable the National Verifier to perform eligibility verification or recertification for individuals applying for Lifeline support.

8. Tribal Nations—To Tribal Nations to perform eligibility verification or recertification for individuals applying for Lifeline support and to obtain enrollment and other selected reports.

9. Service Providers—To service providers who have been designated as ETCs in order to confirm an individual's eligibility and conduct recertification (where the National Verifier, State, or USAC are not responsible for confirming eligibility and/or conducting recertification), complete benefit transfer requests, facilitate the provision of service, allow for the Service Provider to receive reimbursement through the Lifeline Program, and obtain enrollment and other selected reports.

10. FCC Enforcement Actions—When a record in this system involves an informal complaint filed alleging a violation of FCC rules and regulations by an applicant, licensee, certified or regulated entity, or an unlicensed person or entity, the complaint may be provided to the alleged violator for a response. Where a complainant in filing his or her complaint explicitly requests confidentiality of his or her name from public disclosure, the Commission will endeavor to protect such information from public disclosure. Complaints that contain requests for confidentiality may be dismissed if the Commission determines that the request impedes the Commission's ability to investigate and/or resolve the complaint.

11. Congressional Inquiries—To provide information to a Congressional office from the record of an individual in response to an inquiry from that Congressional office made at the request of that individual.

12. Government-Wide Program Management and Oversight—To the National Archives and Records Administration (NARA) for use in its records inspections; to the Government Accountability Office (GAO) for oversight purposes; to the Department of Justice (DOJ) to obtain that department's advice regarding disclosure obligations under the Freedom of Information Act (FOIA); or the Office of Management and Budget (OMB) to obtain that office's advice regarding obligations under the Privacy Act.

13. Income and Program Eligibility Records—To the appropriate Federal and/or State authorities for the purposes of determining whether a household may participate in the Lifeline Program.

14. Law Enforcement and Investigation—To disclose pertinent information to appropriate Federal, State, or local agencies, authorities, and officials responsible for investigating, prosecuting, enforcing, or implementing a statute, rule, regulation, or order, where the FCC becomes aware of an indication of a violation or potential violation of a civil or criminal statute, law, regulation, or order, including but not limited to notifying the Internal Revenue Service (IRS) to investigate income eligibility verification.

15. Adjudication and Litigation—To the Department of Justice (DOJ), in a proceeding before a court, or other administrative or adjudicative body before which the FCC is authorized to appear, when (a) the FCC or any component thereof; (b) any employee of the FCC in his or her official capacity; (c) any employee of the FCC in his or her individual capacity where the DOJ or the FCC has agreed to represent the employee; or (d) the United States is a party to litigation or has an interest in such litigation, and the use of such records by DOJ or the FCC is deemed by the FCC to be relevant and necessary to the litigation.

16. Breach Notification—To appropriate agencies, entities (including USAC), and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

17. Assistance to Federal Agencies and Entities—To another Federal agency or Federal entity or USAC, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

18. Computer Matching Program Disclosure—To Federal, State, and local agencies, and USAC, their employees, and agents for the purpose of conducting computer matching programs as regulated by the Privacy Act of 1974, as amended (5 U.S.C. 552a).

19. Prevention of Fraud, Waste, and Abuse Disclosure—To Federal agencies, non-Federal entities, their employees, and agents (including contractors, their agents or employees; employees or contractors of the agents or designated agents); or contractors, their employees or agents with whom the FCC or USAC has a contract, service agreement, cooperative agreement, or computer matching agreement for the purpose of: (1) Detection, prevention, and recovery of improper payments; (2) detection and prevention of fraud, waste, and abuse in Federal programs administered by a Federal agency or non-Federal entity; (3) detection of fraud, waste, and abuse by individuals in their operations and programs, but only to the extent that the information shared is necessary and relevant to verify pre-award and prepayment requirements prior to the release of Federal funds, prevent and recover improper payments for services rendered under programs of the FCC or of those Federal agencies and non-Federal entities to which the FCC or USAC provides information under this routine use.

20. Information Sharing Environment Disclosure—To contractors, grantees, experts, consultants and their agents, or others performing or working under a contract, service, grant, or cooperative agreement with the FCC or USAC, when necessary to accomplish an agency function related to a system of records. Disclosure requirements are limited to only those data elements considered relevant to accomplishing an agency function. Individuals who provide information under these routine use conditions are subject to Privacy Act requirements and disclosure limitations imposed on the Commission.

POLICIES AND PRACTICES FOR STORAGE OF RECORDS:

The information pertaining to the Lifeline Program includes electronic records, files, data, paper documents, records, and may include audio recordings of calls. Records are maintained in secure, limited access areas. Physical entry by unauthorized persons is restricted through use of locks, passwords, and other security measures. Both USAC and its contractors will jointly manage the electronic data housed at USAC and at the contractors' locations. Paper documents and other physical records (i.e., tapes, compact discs, etc.) will be kept in locked, controlled access areas. Paper documents submitted by applicants to the Lifeline Program will be digitized, and paper copies will be immediately destroyed.

POLICIES AND PRACTICES FOR RETRIEVAL OF RECORDS:

Information in the Lifeline Program system of records may be retrieved by various identifiers, including, but not limited to the individual's name, last four digits of the Social Security Number (SSN), Tribal identification number, date of birth, phone number, residential address, and Lifeline subscriber identification number.

POLICIES AND PRACTICES FOR RETENTION AND DISPOSAL OF RECORDS:

The National Archives and Records Administration (NARA) has not established a records schedule for the information in the Lifeline Program system of records. Consequently, until NARA has approved a records schedule, USAC will maintain all information in the Lifeline Program system of records in accordance with NARA records management directives. The 2012 Lifeline Reform Order states that information in the Lifeline Program is maintained for ten years after the consumer de-enrolls from the Lifeline Program. See Lifeline and Link Up Reform and Modernization et al., Report and Order and Further Notice of Proposed Rulemaking, 27 FCC Rcd 6656, 6740, para. 195 (2012). Disposal of obsolete or out-of-date paper documents and files is by shredding only. Electronic data, files, and records are destroyed by electronic erasure.

ADMINSTRATIVE, TECHNICAL, AND PHYSICAL SAFEGUARDS:

The electronic records, data, and files are maintained in the FCC and the USAC computer network databases, which are protected by the FCC's IT privacy safeguards, a comprehensive and dynamic set of IT safety and security protocols and features that are designed to meet all Federal IT privacy standards, including those required by the National Institute of Standard and Technology (NIST) and the Federal Information Security Management System (FISMA). In addition, access to the electronic files is restricted to authorized USAC and contractors' supervisors and staff and to the FCC's IT supervisors and staff and to the IT contractors who maintain these computer databases. Other FCC employees and contractors may be granted access only on a “need-to-know” basis. In addition, data in the network servers for both USAC and its contractors will be routinely backed-up. The servers will be stored in secured environments to protect the data.

The paper documents and files are maintained in file cabinets in USAC and the contractors' office suites. The file cabinets are locked when not in use and at the end of the business day. Access to these files is restricted to authorized USAC and its contractors' staffs.

NOTIFICATION PROCEDURE:

Individuals wishing to determine whether this system of records contains information about them may do so by writing to the Universal Service Administrative Company (USAC), 700 12th Street NW., Suite 900, Washington, DC 20005; or

Wireline Competition Bureau (WCB), Federal Communications Commission (FCC), 445 12th Street SW., Washington, DC 20554; or

Leslie F. Smith, Privacy Manager, Information Technology (IT), Federal Communications Commission (FCC), 445 12th Street SW., Washington, DC 20554, or email Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (47 CFR part 0, subpart E).

RECORD ACCESS PROCEDURES:

Individuals wishing to request access (and/or amendment) to records about them should follow the Notification Procedure above.

CONTESTING RECORD PROCEDURES:

Individuals wishing to request an amendment of records about them should follow the Notification Procedure above.

EXEMPTIONS CLAIMED FOR THE SYSTEM:

None.

HISTORY:

The FCC last gave full notice of this system of records, FCC/WCB-1, Lifeline Program, by publication in the Federal Register, 78 FR 73535 (Dec. 6, 2013).

Federal Communications Commission.
Marlene H. Dortch,
Secretary.

[FR Doc. 2017-17131 Filed 8-14-17; 8:45 am]

BILLING CODE 6712-01-P